ENVIRONMENTAL PROTECTION AGENCY

40 CFR Parts 141 and 142

[FRL-6715-5]

RIN 2040-AA97

National Primary Drinking Water Regulations; Ground Water Rule

AGENCY: Environmental Protection Agency (EPA).

ACTION: Notice of Extension of Public Comment Period for the Proposed Ground Water Rule.

SUMMARY: Today, the Environmental Protection Agency (EPA) is providing notice to extend the public comment period for the proposed Ground Water Rule (GWR). The proposed GWR was published in the Federal Register on May 10, 2000 (65 FR 30194). The proposed GWR requirements provide a meaningful opportunity to reduce public health risk associated with the consumption of waterborne pathogens from fecal contamination for a substantial number of people served by ground water sources.

DATES: EPA must receive public comments, in writing, on the proposed regulations by August 9, 2000. Comments provided electronically will be considered timely if they are submitted electronically by 11:59 p.m. (Eastern time), August 9, 2000.

ADDRESSES: You may send written comments to the GWR, W-98-23 Comments Clerk, Water Docket (MC-4101); U.S. Environmental Protection Agency; 1200 Pennsylvania Avenue, NW., Washington, DC 20460. Comments may be hand-delivered to the Water Docket, U.S. Environmental Protection Agency; 401 M Street, SW., East Tower Basement, Washington, DC 20460. Comments may be submitted electronically to ow-docket@epamail.epa.gov. Electronic comments must be submitted as an ASCII, WP6.1, or WP8 file avoiding the use of special characters and any form of encryption. Electronic comments must be identified by the docket number W-98-23. Comments and data will also be accepted on disks in WP6.1, WP8, or ASCII format. Electronic comments on this action may be filed online at many Federal Depository libraries.

Please submit a copy of any references cited in your comments. Facsimiles (faxes) cannot be accepted. EPA would appreciate one original and three copies of your comments and enclosures (including any references). Commenters who would like EPA to acknowledge receipt of their comments should include a self-addressed, stamped envelope.

The proposed rule and supporting documents, including public comments, are available for review in the Water Docket at the address listed previously. For information on how to access Docket materials, please call (202) 260-3027 between 9 a.m. and 4:00 p.m. Eastern Time, Monday through Friday.

FOR FURTHER INFORMATION CONTACT: For technical inquiries regarding the proposed regulations, contact the Office of Ground Water and Drinking Water, U.S. Environmental Protection Agency (mailcode 4607),1200 Pennsylvania Ave., NW., Washington DC, 20460. Phone: (202) 260-3309. For general information, contact the Safe Drinking Water Hotline, phone (800) 426-4791. The Safe Drinking Water Hotline is open Monday through Friday, excluding Federal holidays, from 9:00 a.m. to 5:30 p.m. Eastern Time.

SUPPLEMENTARY INFORMATION: On May 10, 2000 EPA published the proposed GWR, 40 CFR parts 141 and 142 (65 FR 30194). The May 10, 2000 notice provided a deadline of 60 days from the date of publication for receipt of public comments. Since the publication date, EPA has received requests to extend the comment period to allow sufficient time for all parties potentially impacted by this proposal to consider and provide comprehensive comments. In response to these requests, EPA has decided to extend the public comment period by an additional 30 days to August 9, 2000.

Dated: June 8, 2000.
J. Charles Fox,
Assistant Administrator.

[FR Doc. 00-15031 Filed 6-13-00; 8:45 am]

BILLING CODE 6560-50-U